ENVIRONMENTAL PROTECTION AGENCY

[EPA-HQ-OPP-2004-0340; FRL-8375-7]

Disulfoton; Amendment to Terminate Certain Uses of Disulfoton Pesticide Registrations

AGENCY: Environmental Protection Agency (EPA).

ACTION: Notice.

SUMMARY: This notice announces EPA's order for the amendments to terminate certain uses, voluntarily requested by the registrant and accepted by the Agency, of products containing the pesticide disulfoton, pursuant to section 6(f)(1) of the Federal Insecticide, Fungicide, and Rodenticide Act (FIFRA), as amended. This termination order follows a May 21, 2008 Federal Register Notice of Receipt of Requests from the disulfoton technical registrant to voluntarily amend to terminate certain uses of their disulfoton product registrations. The request included termination of all disulfoton use on barley and wheat. Additionally, the use of the granular formulation of disulfoton, Di-Syston 15G (EPA Reg. No. 264-723), on broccoli and commercial ornamentals is being terminated. This order also terminates the use of Di-Syston 15G and the emulsifiable concentrate formulation of disulfoton, Di-Syston 8 EC, (EPA Reg. No. 264-734) on potatoes. This order also amends the disulfoton technical product registration (EPA Reg. No. 264-734) to terminate potato, barley, and wheat uses. These are not the last disulfoton uses or products registered in the United States. In the May 21, 2008 notice, EPA indicated that it would issue an order implementing the amendments to terminate uses, unless the Agency received substantive comments within the 30 day comment period that would merit its further review of these requests, or unless the registrant withdrew their requests within this period. The Agency received comments on the notice but none merited its further review of the requests. The comments received by the Agency are described in Unit III. of this notice. Further, the registrant did not withdraw their requests. Accordingly, EPA hereby issues in this notice a cancellation order granting the requested amendments to terminate uses. Any distribution, sale, or use of the disulfoton products subject to this cancellation order is permitted only in accordance with the terms of this order, including any existing stocks provisions.

DATES: The cancellations are effective July 30, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0340. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the amendments to terminate certain uses, as requested by the technical registrant, of several disulfoton products registered under section 3 of FIFRA. The affected registrations are listed in sequence by registration number in Table 1 of this unit.

Table 1—Disulfoton Product Registration Amendments to Terminate Uses
EPA Registration Number | Product Name | Delete from Label
264-723 | Di-Syston 15G | Broccoli, Potato, Wheat, Barley, Ornamentals (commercial uses)
264-725 | Di-Syston Technical | Potato, Wheat, Barley
264-734 | Di-Syston 8 EC | Potato, Wheat, Barley

Table 2 of this unit includes the names and addresses of record for all registrants of the products in Table 1 of this unit, in sequence by EPA company number.

Table 2—Registrants of Amended Disulfoton Products
EPA Company Number | Company Name and Address
264 | Bayer CropSciences, 2 T.W. Alexander Drive, Research Triangle Park, NC 27709

III. Summary of Public Comments Received and Agency Response to Comments

Two comments were received during the 30 day comment period established by the May 21, 2008 notice (73 FR 29507; FRL-8364-7). One comment noted the importance of rotating chemicals with different modes of action to help reduce the development of chemical resistance in pest populations. However, this comment did not articulate a specific concern with the actions proposed by the notice. The other comment requested the retention of disulfoton use for control of leafminers in buxus, a family of evergreen shrubs and small trees, often grown for ornamental purposes. The 2002 disulfoton Reregistration Eligibility Decision (RED) examined the risks and benefits of continued use of the granular formulation of disulfoton on commercial ornamentals. Exposure risk to agricultural workers for this scenario was very high and overall documented usage was very low. Additionally, there are several viable leafminer control alternatives to disulfoton. In addition to numerous chemical alternatives, non-chemical pest control options include the employment of leafminer resistant cultivars. Due to the high exposure risk inherent with disulfoton use on commercial ornamentals and the availability of alternative control methods, the Agency maintains the decision described in the 2002 RED, which is that this use is ineligible for reregistration. For these reasons, the Agency does not believe that the comments submitted during the comment period merit further review or a denial of the requests for voluntary use termination.

IV. Cancellation Order

Pursuant to FIFRA section 6(f), EPA hereby approves the requested amendments to terminate certain uses of disulfoton product registrations identified in Table 1 of Unit II. Accordingly, the Agency orders that the disulfoton product registrations identified in Table 1 of Unit II. are hereby amended to terminate the affected uses. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The registrant may continue to sell and distribute existing stocks of products with previously approved labeling that includes the uses terminated by this order, for six months from the effective date of this cancellation order. Persons other than the registrant may continue to sell and/or use existing stocks of products with previously approved labeling that includes the discontinued uses, until such stocks are exhausted, provided that such use is consistent with the terms of the previously approved labeling on, or that accompanied, the associated products.

List of Subjects

Environmental protection, Pesticides and pests.

Dated: July 23, 2008.
Steven Bradbury,
Director, Special Review and Reregistration Division, Office of Pesticide Programs.

[FR Doc. E8-17334 Filed 7-29-08; 8:45 am]

BILLING CODE 6560-50-S